DEPARTMENT OF HOMELAND SECURITY

Coast Guard

33 CFR Part 100

[Docket No. USCG-2019-0049]

Special Local Regulations; Marine Events Within the Fifth Coast Guard District

AGENCY: Coast Guard, DHS.

ACTION: Notice of enforcement of regulation.

SUMMARY: The Coast Guard will enforce special local regulations for two events, the Cambridge Classic Powerboat Race on May 18, 2019, and May 19, 2019, and the Oxford Funathlon swim event on June 1, 2019 (if necessary, rescheduled to June 2, 2019), to provide for the safety of life on navigable waterways during these events. Our regulation for marine events within the Fifth Coast Guard District identifies the regulated area for each event. During the enforcement periods, the Coast Guard patrol commander or designated marine event patrol may forbid and control the movement of all vessels in the regulated area.

DATES: The regulations in 33 CFR 100.501 will be enforced for the Cambridge Classic Powerboat Race regulated area listed in item b.21 in the Table to § 100.501 from 9:30 a.m. to 5:30 p.m. on May 18, 2019, and from 9:30 a.m. to 5:30 p.m. on May 19, 2019.

The regulations in 33 CFR 100.501 will be enforced for the regulated area listed in item b.14 in the Table to § 100.501 from 8:30 a.m. to 11:30 a.m. on June 1, 2019, and if necessary, due to inclement weather, from 8:30 a.m. to 11:30 a.m. on June 2, 2019. The regulated area is being enforced for the Oxford Funathlon.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: The Coast Guard was notified by the Cambridge Power Boat Racing Association, Inc. on January 31, 2019, through submission of a marine event application, that due to a scheduling change, a change of dates is necessary to the dates previously published in the Code of Federal Regulations (CFR) for the annually scheduled Cambridge Classic Powerboat Race, as listed in the Table to 33 CFR 100.501. This year, the Coast Guard will enforce the special local regulations in 33 CFR 100.501 for the Cambridge Classic Powerboat Race regulated area from 9:30 a.m. to 5:30 p.m. on May 18, 2019 and from 9:30 a.m. to 5:30 p.m. on May 19, 2019. Our regulation for marine events within the Fifth Coast Guard District, § 100.501, specifies the location of the regulated area for the Cambridge Classic Powerboat Race, which encompasses portions of Hambrooks Bay and the Choptank River, at Cambridge, MD.

The Coast Guard was notified by Charcot-Marie-Tooth Association and Therapies For Inherited Neuropathies, Inc. on September 19, 2018, through submission of a marine event application, that it that it will be conducting the swim portion of the Oxford Funathlon from 9:30 a.m. until 10:30 a.m. on June 1, 2019, and if necessary, due to inclement weather, from 9:30 a.m. until 10:30 a.m. on June 2, 2019. The swim event consists of approximately 40 participants competing on a designated 1300-meter course that starts at the ferry dock at Bellevue, MD, and finishes at the Tred Avon Yacht Club at Oxford, MD. The date and location proposed for this event is the same as those for the Oxford-Bellevue Sharkfest Swim event, sponsored by EnviroSports Productions, Inc. The Oxford Funathlon is being held in place of the Oxford-Bellevue Sharkfest Swim. The Coast Guard was notified by EnviroSports Productions, Inc. on December 20, 2018, that it will no longer be holding the Oxford-Bellevue Sharkfest Swim event in 2019 or any future year. Hazards associated with the Oxford Funathlon swim event include participants swimming within and adjacent to the designated navigation channel and interfering with vessels intending to operate within that channel, as well as swimming within approaches to local public and private marinas and public boat facilities. The Coast Guard will enforce the special local regulations in 33 CFR 100.501 for the Oxford Funathlon swim event regulated area from 8:30 a.m. to 11:30 a.m. on June 1, 2019, and if necessary, due to inclement weather, from 8:30 a.m. to 11:30 a.m. on June 2, 2019. Our regulation for marine events within the Fifth Coast Guard District, § 100.501, specifies the location of the regulated area for the Oxford-Bellevue Sharkfest Swim, which encompasses portions of the Tred Avon River, between Bellevue, MD and Oxford, MD.

This action is being taken to provide for the safety of life on navigable waterways during these events. As specified in § 100.501(c), during the enforcement periods, the Coast Guard patrol commander or designated marine event patrol may forbid and control the movement of all vessels in the regulated area. Vessel operators may request permission to enter and transit through a regulated area by contacting the Coast Guard patrol commander on VHF-FM channel 16.

This notice of enforcement is issued under authority of 33 CFR 100.501(f) and 5 U.S.C. 552(a). In addition to this notice of enforcement in the Federal Register, the Coast Guard plans to provide notification of these enforcement periods on scene and via the Local Notice to Mariners and marine information broadcasts.

Dated: February 7, 2019.
Joseph B. Loring,
Captain, U.S. Coast Guard, Captain of the Port Maryland-National Capital Region.

[FR Doc. 2019-02040 Filed 2-11-19; 8:45 am]

BILLING CODE 9110-04-P